ENVIRONMENTAL PROTECTION AGENCY

40 CFR Part 52

[SC-200906; FRL-9286-2]

Approval and Promulgation of Air Quality Implementation Plans; South Carolina; Update to Materials Incorporated by Reference

AGENCY: Environmental Protection Agency (EPA).

ACTION: Final rule; notice of administrative change.

SUMMARY: EPA is publishing this action to provide the public with notice of the update to the South Carolina State Implementation Plan (SIP) compilation. In particular, materials submitted by South Carolina that are incorporated by reference (IBR) into the South Carolina SIP are being updated to reflect EPA-approved revisions to South Carolina's SIP that have occurred since the last update. In this action, EPA is also notifying the public of the correction of certain typographical errors.

DATES: This action is effective April 25, 2011.

ADDRESSES: SIP materials which are incorporated by reference into 40 Code of Federal Regulations (CFR) part 52 are available for inspection at the following locations: Environmental Protection Agency, Region 4, 61 Forsyth Street, SW., Atlanta, GA 30303; the Air and Radiation Docket and Information Center, EPA Headquarters Library, Infoterra Room (Room Number 3334), EPA West Building, 1301 Constitution Ave., NW., Washington, DC 20460, and the National Archives and Records Administration. If you wish to obtain materials from a docket in the EPA Headquarters Library, please call the Office of Air and Radiation (OAR) Docket/Telephone number: (202) 566-1742. For information on the availability of this material at NARA, call 202-741-6030, or go to: http://www.archives.gov/federal-register/cfr/ibr-locations.html.

FOR FURTHER INFORMATION CONTACT: Ms. Nacosta C. Ward at the above Region 4 address or at (404) 562-9140. Ms. Ward may also be contacted via electronic mail at: ward.nacosta@epa.gov.

SUPPLEMENTARY INFORMATION: Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the SIP to EPA. Once these control measures and strategies are approved by EPA, after notice and comment, they are incorporated into the federally approved SIP and are identified in part 52 “Approval and Promulgation of Implementation Plans,” Title 40 of the CFR (40 CFR part 52). The full text of the state regulation approved by EPA is not reproduced in its entirety in 40 CFR part 52, but is “incorporated by reference.” This means that EPA has approved a given state regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on SIP revisions containing new and/or revised regulations as being part of the SIP. On May 22, 1997 (62 FR 27968), EPA revised the procedures for incorporating by reference, into the CFR, materials submitted by states in their EPA-approved SIP revisions. These changes revised the format for the identification of the SIP in 40 CFR part 52, streamlined the mechanisms for announcing EPA approval of revisions to a SIP, and streamlined the mechanisms for EPA's updating of the IBR information contained for each SIP in 40 CFR part 52. The revised procedures also called for EPA to maintain “SIP Compilations” that contain the federally approved regulations and source specific permits submitted by each state agency. These SIP Compilations are contained in 3-ring binders and are updated primarily on an annual basis. Under the revised procedures, EPA is to periodically publish an informational document in the rules section of the Federal Register when updates are made to a SIP Compilation for a particular state. EPA's 1997 revised procedures were formally applied to South Carolina on July 1, 1997 (62 FR 35441).

This action represents EPA's publication of the South Carolina SIP Compilation update, appearing in 40 CFR part 52. In addition, notice is provided for the following typographical corrections to Tables (c), (d), and (e) of paragraph 52.2120, as described below:

1. Correcting typographical errors listed in paragraphs 52.2120(c), (d), and (e) removing all periods after the Federal Register notice citation.

2. Revising the date format listed in paragraphs 52.2120(c), (d), and (e). Revise the date format in the “state effective date,” and “EPA approval date,” columns for consistency. Dates are numerical month/day/year without additional zeros.

3. Restoring all missing entries in table (e).

4. In paragraph (c), the following revisions:

a. Capitalizing the word “subject” in the column header “Title/Subject;”

b. Underlining the words “Federal” and “Register” and capitalizing the letter “r” in the word “register” in the column entitled “Federal Register notice” for consistency within the paragraph and the Federal Register rulemakings.

c. Revising the format of paragraph (c) by removing the second entry of “Regulation No. 62.1 Definitions and General Requirements” and creating rows for all Parts contained in Regulation 62.5, Standard No. 5, Volatile Organic Compounds, “Section I—General Provisions” and “Section II—Provisions for Specific Sources.”

d. Inserting the “State effective date,” “EPA approval date,” and “Federal Register notice” citation to read in the correct columns for Regulation No. 62.2 “Prohibition of Open Burning.”

e. Correcting the “Title/Subject” under Regulation 62.5 for:

i. Standard No. 1, “Section II—Particulate Matter Emissions;”

ii. Standard No. 5, “Section II—Provisions for Specific Sources”

1. Part C—Surface Coating of Paper, Vinyl, and Fabric

2. Part D—Surface Coating of Metal Furniture, and Large Appliances

3. Part F—Surface Coating of Miscellaneous Metal Parts and Products;”

f. correcting the “State effective date” for:

i. Regulation 62.3 “Section II—Emission Reduction Requirements;”

ii. Regulation 62.5, Standard No. 1—Emissions from Fuel Burning Operations

1. “Section II—Particulate Matter Emissions”

2. “Section IV—Opacity Monitoring Requirements”

3. “Section V—Exemptions;”

iii. Regulation 62.5, Standard No. 4—Emissions from Process Industries

1. “Section I—General”

2. “Section II—Sulfuric Acid Manufacturing”

3. “Section III—Kraft Pulp and Paper Manufacturing Plants''

4. “Section IV—Portland Cement Manufacturing”

5. “Section VI—Hot Mix Asphalt Manufacturing”

6. “Section VII—Metal Refining;”

iv. Regulation No. 62.6, “Control of Fugitive Particulate Matter;”

g. Correcting the EPA approval date for Regulation 62.1, “Section V—Credible Evidence.”

h. correcting the Federal Register notice citation for:

i. Regulation 62.1 “Section II—Permit Requirements;”

ii. Regulation 62.3 “Section I—Episode Criteria;”

iii. Regulation 62.3 “Section II—Emission Reduction Requirements;”

iv. Regulation 62.5, Standard No. 1—Emissions from Fuel Burning Operations

1. “Section I—Visible Emissions”

2. “Section II—Particulate Matter Emissions;”

v. Regulation 62.5, Standard No. 4—Emissions from Process Industries

1. “Section III—Kraft Pulp and Paper Manufacturing Plants”

2. “Section VI—Hot Mix Asphalt Manufacturing;”

vi. Regulation 62.5, Standard No. 2—Ambient Air Quality Standards;

vii. Regulation 62.5, Standard No. 4—Emissions From Process Industries

1. “Section V—Cotton Gins”

2. “Section VIII—Other Manufacturing”

3. “Section XI—Total Reduced Sulfur Emissions of Kraft Pulp Mills;”

viii. Regulation 62.5, Standard No. 5—Volatile Organic Compounds

1. “Section I—General Provisions”

2. “Section II—Part A—Surface Coating of Cans”

3. “Section II—Part E—Surface Coating of Magnet Wire”

4. “Section II—Part F—Surface Coating of Miscellaneous Metal Parts and Products”

5. “Section II—Part N—Solvent Metal Cleaning;”

ix. Regulation 62.5, Standard No. 6—Alternative Emission Limitation Options (“Bubble”) “Section II—Conditions for Approval;”

x. Regulation No. 62.6, “Control of Fugitive Particulate Matter;”

xi. Regulation 62.99, “Nitrogen Oxides (NOX) Budget Program Requirements for Stationary Sources Not in the Trading Program;”

i. Moving “Standard No. 5.2—Control of Oxides of Nitrogen (NOX)” after “Standard No. 5—Volatile Organic Compounds” to restore correct numerical order.

j. Removing duplicate entries of Regulation 62.5, Standard No. 4 “Section V—Cotton Gins” and “Section VIII—Other Manufacturing.”

EPA has determined that today's action falls under the “good cause” exemption in the section 553(b)(3)(B) of the Administrative Procedure Act (APA) which, upon finding “good cause,” authorizes agencies to dispense with public participation and section 553(d)(3) which allows an agency to make an action effective immediately (thereby avoiding the 30-day delayed effective date otherwise provided for in the APA). Today's administrative action simply codifies provisions which are already in effect as a matter of law in Federal and approved state programs and corrects typographical errors appearing the Federal Register. Under section 553 of the APA, an agency may find good cause where procedures are “impractical, unnecessary, or contrary to the public interest.” Public comment for this administrative action is “unnecessary” and “contrary to the public interest” since the codification (and typographical corrections) only reflect existing law. Immediate notice of this action in the Federal Register benefits the public by providing the public notice of the updated South Carolina SIP Compilation and notice of typographical corrections to the South Carolina “Identification of Plan” portion of the Federal Register.

Statutory and Executive Order Reviews

A. General Requirements

Under Executive Order 12866 (58 FR 51735, October 4, 1993), this administrative action is not a “significant regulatory action” and is therefore not subject to review by the Office of Management and Budget. This action is not subject to Executive Order 13211, “Actions Concerning Regulations That Significantly Affect Energy Supply, Distribution, or Use” (66 FR 28355, May 22, 2001) because it is not a significant regulatory action under Executive Order 12866. Because the Agency has made a “good cause” finding that this action is not subject to notice-and-comment requirements under the APA or any other statute as indicated in the SUPPLEMENTARY INFORMATION section above, it is not subject to the regulatory flexibility provisions of the Regulatory Flexibility Act (5 U.S.C 601 et seq.), or to sections 202 and 205 of the Unfunded Mandates Reform Act (UMRA) of 1995 (Pub. L. 104-4). In addition, this action does not significantly or uniquely affect small governments or impose a significant intergovernmental mandate, as described in sections 203 and 204 of UMRA.

This administrative action also does not have a substantial direct effect on one or more Indian tribes, on the relationship between the Federal government and Indian tribes, or on the distribution of power and responsibilities between the Federal government and Indian tribes, as specified by Executive Order 13175 (65 FR 67249, November 9, 2000), nor will it have substantial direct effects on the states, on the relationship between the national government and the states, or on the distribution of power and responsibilities among the various levels of government, as specified in Executive Order 13132 (64 FR 43255, August 10, 1999).

This administrative action also is not subject to Executive Order 13045 (62 FR 19885, April 23, 1997), because it is not economically significant. This administrative action does not involve technical standards; thus the requirements of section 12(d) of the National Technology Transfer and Advancement Act of 1995 (15 U.S.C. 272 note) do not apply. The administrative action also does not involve special consideration of environmental justice related issues as required by Executive Order 12898 (59 FR 7629, February 16, 1994). This administrative action does not impose an information collection burden under the Paperwork Reduction Act of 1995 (44 U.S.C. 3501 et seq.). EPA's compliance with these Statutes and Executive Orders for the underlying rules are discussed in previous actions taken on the State's rules.

B. Submission to Congress and the Comptroller General

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's administrative action simply codifies (and corrects) provisions which are already in effect as a matter of law in Federal and approved state programs. 5 U.S.C. 808(2). These announced actions were effective when EPA approved them through previous rulemaking actions. EPA will submit a report containing this action and other required information to the U.S. Senate, the U.S. House of Representatives, and the Comptroller General of the United States prior to publication of this action in the Federal Register. This update to South Carolina's SIP Compilation and correction of typographical errors is not a “major rule” as defined by 5 U.S.C. 804(2).

C. Petitions for Judicial Review

EPA has also determined that the provisions of section 307(b)(1) of the Clean Air Act pertaining to petitions for judicial review are not applicable to this action. This action is simply an announcement of prior rulemakings that have previously undergone notice and comment rulemaking. Prior EPA rulemaking actions for each individual component of the South Carolina SIP compilation previously afforded interested parties the opportunity to file a petition for judicial review in the United States Court of Appeals for the appropriate circuit within 60 days of such rulemaking action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: March 7, 2011.
A. Stanley Meiburg,
Regional Administrator, Region 4.

40 CFR part 52, is amended as follows:

PART 52—[AMENDED]

1. The authority for citation for part 52 continues to read as follows:

Authority: 42 U.S.C. 7401 et seq.

Subpart PP—South Carolina

2. Section 52.2120 paragraphs (b), (c), (d), and (e) are revised to read as follows:

§ 52.2120 Identification of plan.

* * * * *

(b) Incorporation by reference.

(1) Material listed in paragraphs (c) and (d) of this section with an EPA approval date prior to July 31, 2009, for South Carolina was approved for incorporation by reference by the Director of the Federal Register in accordance with 5 U.S.C. 552(a) and 1 CFR part 51. Material is incorporated as it exists on the date of the approval, and notice of any change in the material will be published in the Federal Register. Entries in paragraphs (c) and (d) of this section with EPA approval dates after July 31, 2009, for South Carolina will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1).

(3) Copies of the materials incorporated by reference may be inspected at the Region 4 EPA Office at 61 Forsyth Street, SW., Atlanta, GA 30303 the Air and Radiation Docket and Information Center, EPA Headquarters Library, Infoterra Room (Room Number 3334), EPA West Building, 1301 Constitution Ave., NW., Washington, DC 20460, and the National Archives and Records Administration. If you wish to obtain materials from a docket in the EPA Headquarters Library, please call the Office of Air and Radiation (OAR) Docket/Telephone number: (202) 566-1742. For information on the availability of this material at NARA, call 202-741-6030, or go to: http://www.archives.gov/federal-register/cfr/ibr-locations.html.

(c) EPA approved regulations.

Air Pollution Control Regulations for South Carolina
State citation | Title/subject | State effective date | EPA approval date | Federal Register notice
Regulation No. 62.1 | Definitions and General Requirements | 6/26/1998 | 8/10/2004 | 69 FR 48395
Section I | Definitions | 8/26/2005 | 12/7/2006 | 71 FR 70880
Section II | Permit Requirements | 6/24/2005 | 6/2/2008 | 73 FR 31368
Section III | Emissions Inventory | 2/25/2005 | 12/7/2006 | 71 FR 70880
Section IV | Source Tests | 6/27/2003 | 8/10/2004 | 69 FR 48395
Section V | Credible Evidence | 7/27/2001 | 11/13/2003 | 67 FR 68767
Regulation No. 62.2 | Prohibition of Open Burning | 6/25/2004 | 8/26/2005 | 70 FR 50195
Regulation No. 62.3 | Air Pollution Episodes |  |  |
Section I | Episode Criteria | 10/26/2001 | 5/7/2002 | 67 FR 30594
Section II | Emission Reduction Requirements | 4/22/1988 | 10/3/1989 | 54 FR 40659
Regulation No. 62.4 | Hazardous Air Pollution Conditions | 12/20/1978 | 1/29/1980 | 45 FR 6572
Regulation No. 62.5 | Air Pollution Control Standards |  |  |
Standard No. 1 | Emissions from Fuel Burning Operations |  |  |
Section I | Visible Emissions | 10/26/2001 | 5/7/2002 | 67 FR 30594
Section II | Particulate Matter Emissions | 4/22/1988 | 10/3/1989 | 54 FR 40659
Section III | Sulfur Dioxide Emissions | 3/3/1983 | 10/29/1984 | 49 FR 43469
Section IV | Opacity Monitoring Requirements | 4/22/1988 | 7/2/1990 | 55 FR 27226
Section V | Exemptions | 5/24/1985 | 10/3/1989 | 54 FR 40659
Section VI | Periodic Testing | 6/26/1998 | 8/10/2004 | 69 FR 48395
Section VII | [Reserved] |  |  |
Standard No. 2 | Ambient Air Quality Standards | 9/24/2004 | 8/22/2007 | 72 FR 46903
Standard No. 4 | Emissions From Process Industries |  |  |
Section I | General | 2/28/1986 | 2/17/1987 | 52 FR 4772
Section II | Sulfuric Acid Manufacturing | 2/28/1986 | 2/17/1987 | 52 FR 4772
Section III | Kraft Pulp and Paper Manufacturing Plants | 4/22/1988 | 10/3/1989 | 54 FR 40659
Section IV | Portland Cement Manufacturing | 2/28/1986 | 2/17/1987 | 52 FR 4772
Section V | Cotton Gins | 10/26/2001 | 5/7/2002 | 67 FR 30594
Section VI | Hot Mix Asphalt Manufacturing | 5/24/1985 | 10/3/1989 | 54 FR 40659
Section VII | Metal Refining | 2/28/1986 | 2/17/1987 | 52 FR 4772
Section VIII | Other Manufacturing | 10/26/2001 | 5/7/2002 | 67 FR 30594
Section IX | Visible Emissions | 3/16/1989 | 7/2/1990 | 55 FR 27226
Section X | Non-Enclosed Operations | 3/16/1989 | 7/2/1990 | 55 FR 27226
Section XI | Total Reduced Sulfur Emissions of Kraft Pulp Mills | 10/26/2001 | 5/7/2002 | 67 FR 30594
Section XII | Periodic Testing | 6/26/1998 | 8/10/2004 | 69 FR 48395
Section XIII | [Reserved] |  |  |
Standard No. 5 | Volatile Organic Compounds |  |  |
Section I | General Provisions | 10/26/2001 | 5/7/2002 | 67 FR 30594
Part A | Definitions | 10/26/2001 | 5/7/2002 | 67 FR 30594
Part B | General Applicability | 10/26/2001 | 5/7/2002 | 67 FR 30594
Part C | Alternatives and Exceptions to Control Requirements | 10/26/2001 | 5/7/2002 | 67 FR 30594
Part D | Compliance Schedules | 10/26/2001 | 5/7/2002 | 67 FR 30594
Part E | Volatile Organic Compound Compliance Testing | 6/26/1998 | 8/10/2004 | 69 FR 48395
Part F | Recordkeeping, Reporting, Monitoring | 10/26/2001 | 5/7/2002 | 67 FR 30594
Part G | Equivalency Calculations | 10/26/2001 | 5/7/2002 | 67 FR 30594
Section II | Provisions for Specific Sources |  |  |
Part A | Surface Coating of Cans | 10/26/2001 | 5/7/2002 | 67 FR 30594
Part B | Surface Coating of Coils | 9/18/1990 | 2/4/1992 | 57 FR 4158
Part C | Surface Coating of Paper, Vinyl, and Fabric | 9/18/1990 | 2/4/1992 | 57 FR 4158
Part D | Surface Coating of Metal Furniture and Large Appliances | 9/18/1990 | 2/4/1992 | 57 FR 4158
Part E | Surface Coating of Magnet Wire | 10/26/2001 | 5/7/2002 | 67 FR 30594
Part F | Surface Coating of Miscellaneous Metal Parts and Products | 10/26/2001 | 5/7/2002 | 67 FR 30594
Part G | Surface Coating of Flat Wood Paneling | 5/5/1983 | 10/31/1983 | 48 FR 50078
Part H | Graphic Arts—Rotogravure Flexography | 5/5/1983 | 10/31/1983 | 48 FR 50078
Part I | [Reserved] |  |  |
Part J | [Reserved] |  |  |
Part K | [Reserved] |  |  |
Part L | [Reserved] |  |  |
Part M | [Reserved] |  |  |
Part N | Solvent Metal Cleaning | 10/26/2001 | 5/7/2002 | 67 FR 30594
Part O | Petroleum Liquid Storage in Fixed Roof Tanks | 5/5/1983 | 10/31/1983 | 48 FR 50078
Part P | Petroleum Liquid Storage in External Floating Roof Tanks | 5/5/1983 | 10/31/1983 | 48 FR 50078
Part Q | Manufacture of Synthesized Pharmaceutical Products | 5/5/1983 | 10/31/1983 | 48 FR 50078
Part R | Manufacture of Pneumatic Rubber Tires | 5/5/1983 | 10/31/1983 | 48 FR 50078
Part S | Cutback Asphalt | 6/13/1979 | 12/16/1981 | 46 FR 61268
Part T | Bulk Gasoline Terminals and Vapor Collection Systems | 5/5/1983 | 10/31/1983 | 48 FR 50078
Standard No. 5.2 | Control of Oxides of Nitrogen (NOX) | 6/25/2004 | 8/26/2005 | 70 FR 50195
Standard No. 6 | Alternative Emission Limitation Options (“Bubble”) | 10/26/2001 | 5/7/2002 | 67 FR 30594
Section I | General |  |  |
Section II | Conditions for Approval |  |  |
Part A | Emissions of Total Suspended Particulate or Sulfur Dioxide | 10/26/2001 | 5/7/2002 | 67 FR 30594
Part B | Emissions of Volatile Organic Compounds | 10/26/2001 | 5/7/2002 | 67 FR 30594
Part C | Emissions of Nitrogen Dioxide, Carbon Monoxide, or Lead | 10/26/2001 | 5/7/2002 | 67 FR 30594
Part D | Designated Pollutants | 10/26/2001 | 5/7/2002 | 67 FR 30594
Part E | De Minimis Cases | 10/26/2001 | 5/7/2002 | 67 FR 30594
Section III | Enforceability |  |  |
Standard No. 7 | Prevention of Significant Deterioration ¹ | 6/24/2005 | 6/2/2008 | 73 FR 31371
Section I | Definitions | 6/24/2005 | 6/2/2008 | 73 FR 31368
Section II | Ambient Air Limits | 6/24/2005 | 6/2/2008 | 73 FR 31368
Section III | Review of Major Plants and Major Modifications—Applicability and Exemptions | 6/24/2005 | 6/2/2008 | 73 FR 31368
Section IV | Review Requirements—Supplement C | 4/26/1996 | 8/20/1997 | 62 FR 44218
Regulation No. 62.6 | Control of Fugitive Particulate Matter | 5/24/1985 | 10/3/1989 | 54 FR 40659
Section I | Control of Fugitive Particulate Matter in Non-Attainment Areas | 5/24/1985 | 10/3/1989 | 54 FR 40659
Section II | Control of Fugitive Particulate Matter in Problem Areas | 5/24/1985 | 10/3/1989 | 54 FR 40659
Section III | Control of Fugitive Particulate Matter Statewide | 5/24/1985 | 10/3/1989 | 54 FR 40659
Section IV | Effective Date | 5/24/1985 | 10/3/1989 | 54 FR 40659
Regulation No. 62.7 | Good Engineering Practice Stack Height | 6/11/1986 | 5/28/1987 | 52 FR 19858
Section I | General | 6/11/1986 | 5/28/1987 | 52 FR 19858
Section II | Applicability | 6/11/1986 | 5/28/1987 | 52 FR 19858
Section III | Definitions and Conditions | 6/11/1986 | 5/28/1987 | 52 FR 19858
Section IV | Public Participation | 6/11/1986 | 5/28/1987 | 52 FR 19858
Regulation No. 62.96 | Nitrogen Oxides (NOX) and Sulfur Dioxide (SO2) Budget Trading Program General Provisions | 10/24/2009 | 10/16/2009 | 74 FR 53167
Regulation No. 62.99 | Nitrogen Oxides (NOX) Budget Program Requirements for Stationary Sources Not in the Trading Program | 5/24/2002 | 6/28/2002 | 67 FR 43546
¹ This regulation (submitted on July 1, 2005) includes two portions of EPA's 2002 NSR Reform Rules that were vacated by the DC Circuit Court—Pollution Control Projects (PCPs) and clean units. As a result, EPA is disapproving all rules and/or rule sections in the South Carolina PSD rules referencing clean units or PCPs. Specifically, the following South Carolina rules are being disapproved: (a)(2)(iv)(e); (a)(2)(iv)(f) (second sentence only); (a)(2)(vi); (b)(12); (b)(30)(iii)(h); (b)(34)(iii)(b); (b)(34)(vi)(d); (b)(35); (r)(6) (only the reference to the term “clean unit” is being disapproved. The remainder of this regulatory provision is being approved); (r)(7) (only the reference to the term “clean unit” is being disapproved. The remainder of this regulatory provision is being approved); (x); (y) and (z).

(d) EPA-approved State Source specific requirements.

EPA-Approved South Carolina Source-Specific Requirements
Name of source | Permit No. | State effective date | EPA approval date | Comments
Transcontinental Gas Pipeline Corporation Station 140 | 2060-0179-CD | 4/27/2004 | 4/23/2009, 74 FR 18471 | This permit is incorporated in fulfillment of the NOX SIP Call Phase II requirements for South Carolina.

(e) EPA-approved South Carolina non-regulatory provisions.

Provision | State effective date | EPA approval date | Explanation
Cherokee County Ozone Attainment Demonstration and Ten-year Maintenance Plan | 6/26/1998 | 12/18/1998, 63 FR 70022
Cherokee County Ozone Ten Year Maintenance Plan | 1/31/2002 | 4/26/2002, 67 FR 20647
Transportation Conformity | 10/24/2003 | 1/29/2004, 69 FR 4245
Attainment Demonstration for the Appalachian, Catawba, Pee Dee, Waccamaw, Santee Lynches, Berkeley-Charleston-Dorchester, Low Country, Lower Savannah, Central Midlands, and Upper Savannah Early Action Compact Areas | 12/29/2004 | 8/26/2005, 70 FR 50195
South Carolina Transportation Conformity Air Quality Implementation Plan | 11/28/2008 | 7/28/2009, 74 FR 37168
Cherokee County 110(a)(1) Maintenance Plan for the 1997 8-Hour Ozone Standard | 12/13/2007 | 7/31/2009, 74 FR 26099

[FR Doc. 2011-9689 Filed 4-22-11; 8:45 am]

BILLING CODE 6560-50-P